SECURITIES AND EXCHANGE COMMISSION

[Release No. 34-47104; File No. SR-NYSE-2002-39]

Self-Regulatory Organizations; Order Granting Approval of Proposed Rule Change by the New York Stock Exchange, Inc. (“NYSE”) To Amend NYSE Rule 123D With Respect to Openings, Reopenings and Halts in Trading for Stocks Traded on the Exchange

December 30, 2002.

On August 29, 2002, the New York Stock Exchange, Inc. (“NYSE”) filed with the Securities and Exchange Commission (“Commission”), pursuant to Section 19(b)(1) of the Securities Exchange Act of 1934 (“Act”) ¹ and Rule 19b-4 thereunder,² a proposed rule change to amend NYSE Rule 123D: Openings and Halts in Trading. The proposed amendments would shorten the minimum time period between tape indications and reopenings in stocks that are subject to a trading halt during the trading day. The proposed rule change, as amended, was published for notice and comment in the Federal Register on November 26, 2002.³ The commission received no comments on the proposed rule change.

¹ 15 U.S.C. 78s(b)(1).

² 17 CFR 240.19b-4.

³ Securities Exchange Act Release No. 46852 (November 19, 2002), 67 FR 70796.

The Commission finds that the proposed rule change is consistent with the requirements of the Act and the rules and regulations thereunder applicable to a national securities exchange ⁴ and, in particular, the requirements of Section 6 of the Act⁵ and the rules and regulations thereunder. The Commission believes that the NYSE's amendments to NYSE Rule 123D to revise the procedures for re-opening after a trading halt strike a reasonable balance between preserving the price discovery process and providing timely opportunities for investors to participate in the market.

⁴ In approving this proposed rule change, the Commission has considered the proposed rule's impact on efficiency, competition, and capital formation. 15 U.S.C. 78c(f).

⁵ 15 U.S.C. 78f.

It is therefore ordered, pursuant to Section 19(b)(2) of the Act ⁶ that the proposed rule change (SR-NYSE-2002-39), be, and hereby is, approved.

⁶ 15 U.S.C. 78s(b)(2).

For the Commission, by the Division of Market Regulation, pursuant to delegated authority.⁷
⁷ 17 CFR 200.30-3(a)(12).
Margaret H. McFarland,
Deputy Secretary.

[FR Doc. 03-183 Filed 1-3-03; 8:45 am]

BILLING CODE 8010-01-M